DEPARTMENT OF TRANSPORTATION

National Highway Traffic Safety Administration

[Docket No. NHTSA-99-6209; Notice 2]

American Transportation Corp., Partial Grant and Partial Denial of Application for Decision of Inconsequential Noncompliance

American Transportation Corporation (AmTran) has determined certification labels on its AmTran buses are not in full compliance with Federal Motor Vehicle Safety Standard (FMVSS) No. 120, “Tire selection and rims for motor vehicles other than passenger cars,” and 49 CFR part 567, “Certification,” and has filed an appropriate report pursuant to 49 CFR Part 573, “Defect and Noncompliance Reports.” AmTran has also applied to be exempted from the notification and remedy requirements of 49 U.S.C. Chapter 301—“Motor Vehicle Safety” on the basis that the noncompliances and the failures to meet part 567 are inconsequential to motor vehicle safety.

Notice of receipt of the application was published, with a 30-day comment period, on September 27, 1999, in the Federal Register (64 FR 52118). NHTSA received no comments.

From October 27, 1991 through February 11, 1999, AmTran produced 1,514 buses with incorrect certification labels. AmTran states that the tire inflation pressure, as it is written on the certification label required by part 567, cannot support the weight capacity of the bus. AmTran has determined that a majority of the certification labels specify an inflation pressure that is five to ten pounds below the inflation pressure that is necessary to support the weight of the bus when it operates with a full load of passengers. In addition, a few certification labels specify an inflation pressure that is ten to twenty pounds below the inflation pressure that is necessary to support the weight of the bus when it operates at maximum capacity. However, if the same tires are inflated to the maximum inflation pressure that is molded on the sidewall, then the tires will support the vehicle's weight. AmTran, in effect, is asking to be excused from preparing and sending corrected certification labels to the vehicles' owners.

In addition, the information on the certification label is required to be specified in English and metric units. According to AmTran, all of the AmTran buses produced prior to February 11, 1999, have a certification label that correctly specifies the weight of the vehicle without identifying it as “lbs.”

AmTran supports its application for inconsequential noncompliance for the certification label by stating the following:

• Most buses do not run at full GVWR or full capacity.

• When buses operate at full capacity, it is for a very short period of time.

• There have been no tire warranty claims related to low pressure.

• Most tires are inflated by charts used at maintenance areas and the certification document is not used as a guide.

• The difference between the specified tire pressure and the required tire pressure is not a safety issue in this case.

In addition, AmTran supports its application for inconsequential noncompliance for the missing units of “lbs” by stating the following:

• Not aware of any problems created by the missing unit identification.

• It is understood in the U.S. bus industry that the GAWR and GVWR are listed in pounds.

We have reviewed the petitioner's arguments. The purpose for the labeling requirements in FMVSS No. 120 is to provide the vehicle user with information for the safe operation of the vehicle. FMVSS No. 120 paragraph S5.3.1 specifies that the certification label on buses include the recommended cold inflation pressure for the tires such that the sum of the load ratings of the tires on each axle is appropriate for the GAWR. Part 567 specifies the content and location of the certification label. In this case, no units of measure were provided.

Of the 1,514 buses, our analysis indicates that 557 have specified a tire inflation pressure on the label that is incorrect and may not be able to handle the load. Under-inflation and overloading produces structural failure in a tire; this could cause loss of control while the vehicle is traveling on the highway. This presents a clear and distinct safety hazard. However, the remaining 957 buses, based on our analysis of supplemental data, should be able to handle the full occupant capacity loads when the vehicle tires are inflated to the recommended inflation pressures.

In consideration of the foregoing, NHTSA has decided that the applicant has not met its burden of persuasion that the noncompliance it describes is inconsequential to safety for 557 buses. Accordingly, in regards to the certification label, its application is hereby denied for 557 buses and granted for 957 buses. In addition, the replacement labels should contain the correct data in both metric and English units.

According to AmTran, the processes have been extensively reviewed, the causes of these noncompliances have been isolated, and changes in the processes have been instituted to prevent any future occurrences. In addition, the noncompliance is limited to the buses addressed in this notice, and AmTran stated that its future products will comply with the prescribed requirements.

The agency agrees with AmTran that the label on these buses whose only deficiency is the failure to provide the marking “lbs” for the units, and a metric conversion, is likely to achieve the safety purpose of the required label. The vehicle user will have the correct safety information in the prescribed location and format. Since petitioning the agency on this subject, AmTran has corrected its certification label process to include the prescribed format.

In consideration of the foregoing, NHTSA has decided that the applicant has met its burden of persuasion that this labeling noncompliance portion of its petition is inconsequential to motor vehicle safety. Accordingly, we grant its petition on this issue.

(49 U.S.C. 30118, 30120, delegations of authority at 49 CFR 1.50 and 501.8)
Issued on February 2, 2001.
Stephen R. Kratzke,
Associate Administrator for Safety Performance Standards.

[FR Doc. 01-3557 Filed 2-12-01; 8:45 am]

BILLING CODE 4910-59-P